DEPARTMENT OF HOMELAND SECURITY

Coast Guard

33 CFR Part 117

[USCG-2010-0479]

RIN 1625-AA09

Drawbridge Operation Regulation; Curtis Creek, Baltimore, MD

AGENCY: Coast Guard, DHS.

ACTION: Notice of temporary deviation from regulations.

SUMMARY: The Commander, Fifth Coast Guard District, has approved a temporary deviation from the regulation governing the operation of the Pennington Avenue Bridge, across Curtis Creek, mile 0.9, at Baltimore, MD. This deviation allows the bridge to operate on a restricted schedule to facilitate structural repairs.

DATES: This deviation is effective from 6 a.m. on August 5, 2010, to 11:59 p.m. on December 1, 2010. This document is effective from date of signature due to safety concerns created by the structural repairs.

ADDRESSES: Documents mentioned in this preamble as being available in the docket are part of docket USCG-2010-0479 and are available online by going to http://www.regulations.gov, inserting USCG-2010-0479 in the “Keyword” box and then clicking “Search”. They are also available for inspection or copying at two locations: the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Bill H. Brazier, Bridge Management Specialist, Fifth Coast Guard District; telephone 757-398-6422, e-mail Bill.H.Brazier@uscg.mil. If you have questions on viewing the docket, call Renee V. Wright, Program Manager, Docket Operations, telephone 202-366-9826.

SUPPLEMENTARY INFORMATION: The Maryland State Highway Administration, who owns and operates this double-leaf bascule drawbridge, has requested a temporary deviation from the current general operating regulations set out in 33 CFR 117.5 that requires the bridge to open promptly and fully for the passage of vessels when a request to open is given, to facilitate structural repair.

The Pennington Avenue Bridge has a vertical clearance in the closed position to vessels of 38 feet, above mean high water.

Under this temporary deviation, the drawbridge with four lift spans will provide full and partial openings of the spans for vessels on different dates and times. To facilitate the replacement of the grid deck, floor beams and stringers, the drawbridge will be maintained in closed position to vessels to include immobilizing half of the draw spans to single-leaf operation. The drawbridge will operate as follows:

(1) Closed to vessels beginning at 6 a.m. on August 5, 2010 until and including 11:59 p.m. on August 22, 2010; however, vessels openings will be provided if at least 48 hours advance notice is given;

(2) Single leaf operation on the northwest side span starting at 5 a.m. on August 22, 2010 or after the vessel IDA LEWIS has passed until and including 11:59 p.m. on September 11, 2010. The opposite connecting spans on the south side while not under repair will continue to open for vessels;

(3) Closed to vessels beginning at 6 a.m. on September 12, 2010 until and including 11:59 p.m. on October 6, 2010; however, vessels openings will be provided if at least 48 hours advance notice is given;

(4) Single leaf operation on the northeast side span starting at 5 a.m. on October 8, 2010 until and including 11:59 p.m. on October 28, 2010. The opposite connecting spans on the south side while not under repair will continue to open for vessels;

(5) Closed to vessels beginning at 6 a.m. on October 29, 2010 until and including 11:59 p.m. on December 1, 2010; however, vessels openings will be provided if at least 48 hours advance notice is given.

Coast Guard vessels bound for the Coast Guard Yard at Curtis Bay, as well as a significant amount of commercial vessel traffic, must pass through the Pennington Avenue Bridge. The Coast Guard has carefully coordinated the restrictions with the Yard and the commercial users of the waterway. Additionally, the Coast Guard will inform unexpected users of the waterway through our Local and Broadcast Notices to Mariners of the closure periods for the bridge so that vessels can arrange their transits to minimize any impact caused by the temporary deviation.

Vessels may pass underneath the bridge while the bridge is in the closed position. There are no alternate routes for vessels transiting this section of Curtis Creek and the drawbridge will be able to open in the event of an emergency.

In accordance with 33 CFR 117.35(e), the drawbridge must return to its regular operating schedule immediately at the end of the designated time period. This deviation from the operating regulations is authorized under 33 CFR 117.35.

Dated: August 5, 2010.
Waverly W. Gregory, Jr.,
Chief, Bridge Administration Branch, Fifth Coast Guard District.

[FR Doc. 2010-20250 Filed 8-16-10; 8:45 am]

BILLING CODE 9110-04-P